DEPARTMENT OF THE INTERIOR

Bureau of Land Management

[CO-930-1430-ET; COC-59980]

Public Land Order No. 7582; Withdrawal of Public Land and Reserved Federal Mineral Interest for the Rio Blanco Project Site; Colorado

AGENCY: Bureau of Land Management, Interior.

ACTION: Public Land Order.

SUMMARY: This order withdraws 200 acres of public land from surface entry and mining and 160 acres of reserved Federal mineral interest from mining, for the Department of Energy for a 50-year period to protect the public from subsurface contamination at the Rio Blanco Project Site.

EFFECTIVE DATE: September 18, 2003.

FOR FURTHER INFORMATION CONTACT: Doris E. Chelius, BLM Colorado State Office, 2850 Youngfield Street, Lakewood, Colorado 80215-7093, 303-239-3706.

SUPPLEMENTARY INFORMATION: The land will remain open to mineral leasing, subject to approval by the Department of Energy.

Order

By virtue of the authority vested in the Secretary of the Interior by Section 204 of the Federal Land Policy and Management Act of 1976, 43 U.S.C. 1714 (1994), it is ordered as follows:

1. Subject to valid existing rights, the following described land is hereby withdrawn from settlement, sale, location, and entry under the public land laws, including the United States mining laws (30 U.S.C. Ch. 2 (2000)), but not the mineral leasing laws, to protect the public from subsurface contamination at the Department of Energy Rio Blanco Project Site:

Sixth Principal Meridian

T. 3 S., R. 98 W.,

sec. 10, SE¼SE¼;

sec. 11, SW¼SW¼;

sec. 14, NW¼NW¼;

sec. 15, E½NE¼.

The area described contains 200 acres in Rio Blanco County.

2. Subject to valid existing rights, the following described reserved Federal mineral interest is withdrawn from location and entry under the United States mining laws (30 U.S.C. Ch 2 (2000)), but not the mineral leasing laws, to protect the public from subsurface contamination at the Department of Energy Rio Blanco Project Site:

Sixth Principal Meridian

T. 3 S., R. 98 W.,

sec. 11, SE¼SW¼;

sec. 14, E½NW¼ and SW¼NW¼.

The area described contains 160 acres in Rio Blanco County.

3. The Bureau of Land Management will maintain jurisdiction over surface management of the land described in Paragraph 1.

4. This withdrawal will expire 50 years from the effective date of this order, unless, as a result of a review conducted before the expiration date pursuant to Section 204(f) of the Federal Land Policy and Management Act of 1976, 43 U.S.C. 1714(f) (1994), the Secretary determines that the withdrawal shall be extended.

Dated: September 3, 2003.
Rebecca W. Watson,
Assistant Secretary—Land and Minerals Management.

[FR Doc. 03-23827 Filed 9-17-03; 8:45 am]

BILLING CODE 1430-JB-P